INTER-AMERICAN FOUNDATION

Sunshine Act Meetings

TIME AND DATE: November 28, 2017, 11:00 a.m.-12:30 p.m.

PLACE: Via tele-conference hosted at Inter-American Foundation, 1331 Pennsylvania Ave., Suite 1200, NW., Washington, DC 20004.

STATUS: Meeting of the Board of Directors, Open to the public.

MATTERS TO BE CONSIDERED:

FY19 Budget Submission

FOR DIAL-IN INFORMATION CONTACT: Karen Vargas, Executive Assistant, (202) 524-8869.

CONTACT PERSON FOR MORE INFORMATION: Paul Zimmerman, General Counsel, (202) 683-7118.

Paul Zimmerman,
General Counsel.

[FR Doc. 2017-25730 Filed 11-22-17; 5:10 pm]

BILLING CODE 7025-01-P